DEPARTMENT OF THE INTERIOR

National Indian Gaming Commission

Fee Rate and Fingerprint Fees

AGENCY: National Indian Gaming Commission, Interior.

ACTION: Notice.

SUMMARY: Notice is hereby given that the National Indian Gaming Commission has adopted its annual fee rates of 0.00% for tier 1 and 0.08% (.0008) for tier 2, which maintain the current fee rates. These rates shall apply to all assessable gross revenues from each gaming operation under the jurisdiction of the Commission. If a tribe has a certificate of self-regulation, the fee rate on Class II revenues shall be 0.04% (.0004) which is one-half of the annual fee rate. The annual fee rates are effective November 1, 2023, and will remain in effect until new rates are adopted. The National Indian Gaming Commission has also adopted its fingerprint processing fee of $53 per card which represents an increase of $8 per card. The fingerprint processing fee is effective November 1, 2023, and will remain in effect until the Commission adopts a new rate.

FOR FURTHER INFORMATION CONTACT: Yvonne Lee, National Indian Gaming Commission, 1849 C Street NW, Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations.

Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission. It is necessary for the Commission to maintain the fee rate to ensure that the agency has sufficient funding to fully meet its statutory and regulatory responsibilities as the gaming industry continues to emerge from the pandemic. In addition, it is critical for the Commission to maintain constantly an adequate transition carryover balance to cover any cash flow variations.

Pursuant to 25 CFR 514, the Commission must also review annually the costs involved in processing fingerprint cards and set a fee based on fees charged by the Federal Bureau of Investigation and costs incurred by the Commission. Commission costs include Commission personnel, supplies, equipment & infrastructure costs, and postage to submit the results to the requesting tribe. The number of fingerprint cards submitted to the NIGC for processing has significantly decreased since the pandemic. The fingerprint processing fee increase is a result of spreading the fixed costs allocated to fingerprint processing over a smaller number of cards processed. In addition, the FY24 fingerprint processing fee includes the cost allocation from the one-time capital investments associated with the Washington, DC headquarters office relocation and the Agency's hardware refresh of core networking and server computing devices required to support the Agency's infrastructure operations. Maintaining valid support agreements and replacing aging hardware when needed is vital to ensure maximum uptime for IT operations while minimizing disruptions to business processes, including the Tribal fingerprint services. In FY24 the Commission will also continue its commitment to take necessary measures to comply with the Federal Bureau of Investigation Criminal Justice Information Services (FBI CJIS) requirements which ensure the NIGC and participating tribes can continue to use FBI criminal history report information (CHRI) to assist in determining a key employee or primary management official's eligibility for a gaming license.

Dated: November 1, 2023.
Edward Simermeyer,
Chairman.
Dated: November 1, 2023.
Jean Hovland,
Vice Chair.

[FR Doc. 2023-24780 Filed 11-8-23; 8:45 am]

BILLING CODE 7565-01-P